DEPARTMENT OF ENERGY

Federal Energy Regulatory Commission

Combined Notice of Filings #1

Take notice that the Commission received the following electric rate filings:

Docket Numbers: ER10-2881-003; ER10-2882-003; ER10-2883-003; ER10-2884-003; ER10-2885-003; ER10-2641-003; ER10-2663-003; ER10-2886-003.

Applicants: Alabama Power Company, Southern Power Company, Mississippi Power Company, Georgia Power Company, Gulf Power Company, Oleander Power Project, Limited Partnership, Southern Company—Florida LLC, Southern Turner Cimarron I, LLC.

Description: Southern Company Services, Inc. Change in Status Report.

Filed Date: 1/25/12.

Accession Number: 20120125-5155.

Comments Due: 5 p.m. ET 2/15/12.

Docket Numbers: ER12-232-001.

Applicants: Northern States Power Company, a Wisconsin corporation.

Description: Northern States Power Company, a Wisconsin corporation submits tariff filing per 35.19a(b): 2012-1-25_NSPW-DPC_Refund Report_314 to be effective N/A.

Filed Date: 1/25/12.

Accession Number: 20120125-5074.

Comments Due: 5 p.m. ET 2/15/12.

Docket Numbers: ER12-875-000.

Applicants: Employers' Energy Alliance of Pennsylvania, Inc.

Description: Baseline Tariff Filing to be effective 1/24/2012.

Filed Date: 1/24/12.

Accession Number: 20120124-5001.

Comments Due: 5 p.m. ET 2/14/12.

Docket Numbers: ER12-877-000.

Applicants: Southwest Power Pool, Inc.

Description: Amendment to Attachment P—Transmission Service Timing Requirements to be effective 3/25/2012.

Filed Date: 1/24/12.

Accession Number: 20120124-5130.

Comments Due: 5 p.m. ET 2/14/12.

Docket Numbers: ER12-878-000.

Applicants: Southwest Power Pool, Inc.

Description: 1896R1 Westar Energy, Inc. NITSA NOA to be effective 12/1/2011.

Filed Date: 1/24/12.

Accession Number: 20120124-5135.

Comments Due: 5 p.m. ET 2/14/12.

Docket Numbers: ER12-879-000.

Applicants: Southwest Power Pool, Inc.

Description: 1975R1 Westar Energy, Inc. NITSA NOA to be effective 12/1/2011.

Filed Date: 1/24/12.

Accession Number: 20120124-5139.

Comments Due: 5 p.m. ET 2/14/12.

Docket Numbers: ER12-880-000.

Applicants: Southwest Power Pool, Inc.

Description: 2045R1 Westar Energy, Inc. NITSA NOA to be effective 12/1/2011.

Filed Date: 1/24/12.

Accession Number: 20120124-5142.

Comments Due: 5 p.m. ET 2/14/12.

Docket Numbers: ER12-881-000.

Applicants: Southwest Power Pool, Inc.

Description: 2066R1 Westar Energy, Inc. NITSA NOA to be effective 12/1/2011.

Filed Date: 1/24/12.

Accession Number: 20120124-5146.

Comments Due: 5 p.m. ET 2/14/12.

Docket Numbers: ER12-882-000.

Applicants: Dominion Energy New England, LLC.

Description: Compliance Filing—Name Change and Designation of Filer to be effective 1/19/2012.

Filed Date: 1/24/12.

Accession Number: 20120124-5174.

Comments Due: 5 p.m. ET 2/14/12.

Docket Numbers: ER12-883-000.

Applicants: Fairless Energy, LLC.

Description: Compliance Filing—Fairless as Designated Filer for 11 Cos. to be effective 1/24/2012.

Filed Date: 1/24/12.

Accession Number: 20120124-5189.

Comments Due: 5 p.m. ET 2/14/12.

Docket Numbers: ER12-884-000.

Applicants: Dominion Energy Marketing, Inc.

Description: Compliance Filing—Designation of Filer to be effective 1/24/2012.

Filed Date: 1/24/12.

Accession Number: 20120124-5192.

Comments Due: 5 p.m. ET 2/14/12.

Docket Numbers: ER12-885-000.

Applicants: New York Independent System Operator, Inc., Niagara Mohawk Power Corporation.

Description: NiMo Albany Landfill Cost Reimbursement Agreement to be effective 1/9/2012.

Filed Date: 1/25/12.

Accession Number: 20120125-5042.

Comments Due: 5 p.m. ET 2/15/12.

Docket Numbers: ER12-886-000.

Applicants: Northern Iowa Windpower, LLC.

Description: Northern Iowa Windpower, LLC submits tariff filing per 35.13(a)(2)(iii): Northern Iowa MBRT to be effective 4/20/2011.

Filed Date: 1/24/12.

Accession Number: 20120124-5207.

Comments Due: 5 p.m. ET 2/14/12.

Docket Numbers: ER12-887-000.

Applicants: Dominion Energy Brayton Point, LLC.

Description: Dominion Energy Brayton Point, LLC submits tariff filing per 35: Compliance Filing—Designation of Filer to be effective 1/24/2012.

Filed Date: 1/25/12.

Accession Number: 20120125-5139.

Comments Due: 5 p.m. ET 2/15/12.

Docket Numbers: ER12-888-000.

Applicants: Dominion Energy Kewaunee, Inc.

Description: Dominion Energy Kewaunee, Inc. submits tariff filing per 35: Compliance Filing—Designation of Filer to be effective 1/25/2012.

Filed Date: 1/25/12.

Accession Number: 20120125-5141.

Comments Due: 5 p.m. ET 2/15/12.

Take notice that the Commission received the following open access transmission tariff filings:

Docket Numbers: OA12-2-000.

Applicants: Idaho Power Company.

Description: Report of Idaho Power Company, Unreserved Use Compliance Filing letter.

Filed Date: 1/25/12.

Accession Number: 20120125-5137.

Comments Due: 5 p.m. ET 2/15/12.

Take notice that the Commission received the following PURPA 210(m)(3) filings:

Docket Numbers: QM12-3-000.

Applicants: Consumers Energy Company.

Description: Application of Consumers Energy Company APPLICATION for relief from the PURPA mandatory purchase requirement with regard to qualified facilities with capacity over twenty megawatts.

Filed Date: 1/25/12.

Accession Number: 20120125-5134.

Comments Due: 5 p.m. ET 2/22/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2012.
Nathaniel J. Davis, Sr.,
Deputy Secretary.

[FR Doc. 2012-2153 Filed 1-31-12; 8:45 am]

BILLING CODE 6717-01-P